DEPARTMENT OF ENERGY

Western Area Power Administration

South Dakota PrairieWinds Project (DOE/EIS-0418)

AGENCY: Western Area Power Administration, DOE.

ACTION: Notice of Record of Decision and Floodplain Statement of Findings.

SUMMARY: The Western Area Power Administration (Western) received two requests from Basin Electric Power Cooperative (Basin Electric); one to interconnect their proposed South Dakota PrairieWinds Project (Proposed Project) and one to interconnect the South Dakota Wind Partners, LLC's (Wind Partners') proposed development to Western's transmission system. The U.S. Department of Agriculture, Rural Utilities Service (RUS), also received a request from Basin Electric for financial assistance for the Proposed Project. RUS is a joint lead agency in the Environmental Impact Statement (EIS) process.

The Proposed Project includes a 151.5-megawatt (MW) nameplate capacity wind-powered energy generation facility that would feature 101 wind turbine generators; 6,000 square-foot operations and maintenance building and fence perimeter; 64 miles of underground communication system and electrical collector lines (within the same trench); 34.5-kilovolt (kV) to 230-kV collector substation and microwave tower; 11 mile-long overhead 230-kV transmission line; temporary equipment/material storage or lay-down areas; temporary batch plant; temporary crane walks; and 81 miles of new and/or upgraded service roads to access the facilities. Wind Partners' proposed development would include the installation of an additional seven turbines within the Crow Lake Alternative and use a portion of the other facilities described for the Proposed Project. Through an agreement between Basin Electric and Wind Partners, Basin Electric would construct, operate, and maintain the Wind Partners' proposed development.

Western considered the interconnection requests under the provisions of its Open Access Transmission Service Tariff (Tariff), along with the information in the EIS and all comments received, and has made the decision to allow both of Basin Electric's requests to interconnect at Western's existing Wessington Springs Substation.

FOR FURTHER INFORMATION CONTACT: Please contact Ms. Liana Reilly, National Environmental Policy Act (NEPA) Document Manager, Western Area Power Administration, P.O. Box 281213, Lakewood, CO 80228; telephone (800) 336-7288 or e-mail sdprairiewinds@wapa.gov for additional information concerning the Proposed Project and Wind Partners' proposed development.

For general information on the Department of Energy's (DOE) NEPA review process, please contact Ms. Carol M. Borgstrom, Director, Office of NEPA Policy and Compliance, GC-54, U.S. Department of Energy, 1000 Independence Avenue, SW., Washington, DC 20585; telephone (800) 472-2756.

For information on RUS financing, contact Mr. Dennis Rankin, Project Manager, Engineering and Environmental Staff, Rural Utilities Service, Utilities Program, 1400 Independence Avenue, SW., Mail Stop 1571, Washington, DC 20250-1571, telephone (202) 720-1953 or e-mail dennis.rankin@wdc.usda.gov.

SUPPLEMENTARY INFORMATION: Western is a Federal agency within the DOE that markets and transmits wholesale electrical power through an integrated 17,000-mile, high-voltage transmission system across 15 western states. Western received two requests from Basin Electric; one to interconnect the Proposed Project and one to interconnect the Wind Partners' proposed development, to Western's transmission system. The Proposed Project and the Wind Partners' proposed development are located within Western's Upper Great Plains Region, which operates and maintains nearly 100 substations and nearly 7,800 miles of Federal transmission lines in Minnesota, South Dakota, North Dakota, Montana, Nebraska, and Iowa.

Western and RUS published a Notice of Intent (NOI) to prepare an EIS on April 7, 2009, (74 FR 15718). A Notice of Availability of the Draft EIS was published by the United States Environmental Protection Agency (EPA) on January 15, 2010 (75 FR 2540), and a Notice of Availability of the Final EIS was published by the EPA on July 30, 2010 (75 FR 44951).

Western's Purpose and Need

Western's need for action is triggered by Basin Electric's interconnection requests. Western's Tariff describes the conditions necessary for access to its transmission system. Western provides an interconnection if there is available capacity on the transmission system, while considering transmission system reliability and power delivery to existing customers, and the applicant's objectives.

Western's Proposed Action

Western's Federal involvement, under the provisions of the Tariff, is limited to consideration of Basin Electric's interconnection request for their Proposed Project and the interconnection request for the Wind Partners' proposed development. Western's Proposed Action is to interconnect the Proposed Project and Wind Partners' proposed development to Western's transmission system. This involves adding electrical equipment to the Wessington Springs Substation and making other minor system modifications within the substation.

Basin Electric's Purpose and Need

Public policy regarding the electric industry has increasingly focused on the carbon intensity of the resources commonly used to generate electricity. As a result, incentives and regulations to encourage or require the generation of power from renewable or low-environmental-impact resources are being actively considered and/or implemented within the Basin Electric member service areas. With members in nine States, Basin Electric recognizes the need for additional renewable energy capacity to service forecasted member load-growth demands and to meet State-mandated RPS. In addition, Basin Electric membership passed a resolution at their 2005 annual meeting that established a goal to, “obtain renewable or environmentally benign resources equal to 10 percent of the MW capacity needed to meet its member demand by 2010.”

Basin Electric's 2007 Power Supply Analysis (PSA) provided an in-depth look at Basin Electric's current operating system, future load growth and the framework for future expansion, including both supply-side and demand-side resource expansion. All future expansion portfolios include wind energy development. Basin Electric determined that a 151.5-MW wind farm would be the best available, least-cost renewable resource energy generation option to meet the State-mandated RPS and renewable energy objective (REO), meet Basin Electric's renewable energy goal established in 2005, and serve forecasted member load-growth demands. With the addition of 151.5 MW from the Proposed Project, Basin Electric would be able to meet the REO requirements for those States that currently have them.

Basin Electric's Proposed Project

The Proposed Project includes a 151.5-MW nameplate capacity wind-powered energy generation facility that would feature 101 wind turbine generators, operations and maintenance building and fence perimeter, underground communication system and electrical collector lines (within the same trench), collector substation and microwave tower, overhead transmission line, temporary equipment/material storage or lay-down areas, temporary batch plant, temporary crane walks, and new and/or upgraded service roads to access the facilities.

Wind Partners' Purpose and Need

The Wind Partners' proposed development would enable local community involvement and investment in wind projects. The proposed development would also help meet the State of South Dakota's voluntary REO of 10 percent.

Wind Partners' Proposed Development

The Wind Partners' proposed development would include the installation of an additional seven turbines within the Crow Lake Alternative and use a portion of the other facilities described for the Proposed Project. Through an agreement between Basin Electric and Wind Partners, Basin Electric would construct, operate, and maintain the Wind Partners' proposed development.

Alternatives Considered

The EIS reviewed the options considered by Basin Electric in its PrairieWinds—SD 1 Alternative Evaluation Analysis and Site Selection Study (PrairieWinds Study). The PrairieWinds Study determined a wind project to be the best available, least-cost renewable resource option to satisfy future load and RPS requirements. Western has no decision-making authority over these options. Western's Federal involvement is limited to the determination of whether to allow the interconnections of the Proposed Project and the Wind Partners' proposed development. For the purposes of furthering environmental decision making, the EIS analyzed three alternatives: No Action Alternative, Crow Lake Alternative, and Winner Alternative.

No Action Alternative

Under the No Action Alternative, Western would deny the interconnection request(s) and RUS would not provide financial assistance for the Proposed Project. For the purpose of impact analysis and comparison in the EIS, it was assumed that the Proposed Project and Wind Partners' proposed development would not be built and the environmental impacts, both positive and negative, associated with construction and operation would not occur. However, Basin Electric is a regulated utility with load growth responsibility and a need to meet RPSs, REOs, and renewable energy goals; therefore, it is reasonable to expect that it would construct a similar generation facility elsewhere in South Dakota. Such a facility might not interconnect to a Federal transmission system, involve Federal financing, or have any other Federal nexus that would require a NEPA process.

Crow Lake Alternative

The Crow Lake Alternative is located on approximately 36,000 acres approximately 15 miles north of the City of White Lake, South Dakota, within Aurora, Brule, and Jerauld counties, and would interconnect with Western's Wessington Springs Substation, located in Jerauld County, South Dakota. The Proposed Project includes a 151.5-MW nameplate capacity wind-powered energy generation facility that would feature 101 wind turbine generators; 6,000 square-foot operations and maintenance building and fence perimeter; 64 miles of underground communication system and electrical collector lines (within the same trench); 34.5-kV to 230-kV collector substation and microwave tower; 11 mile-long overhead 230-kV transmission line; equipment/material storage or lay-down areas (temporary impact of 10 acres); batch plant (temporary impact of 8 acres); crane walks (temporary impact of 254.6 acres); and 81 miles of new and/or upgraded service roads to access the facilities. Wind Partners' proposed development would include the installation of an additional seven turbines within the Crow Lake Alternative and share use of a small portion of the other facilities described for the Proposed Project. Through an agreement between Basin Electric and Wind Partners, Basin Electric would construct, operate, and maintain the Wind Partners' proposed development. The Crow Lake Alternative would result in a temporary impact to 1,006 acres and permanent impact to 190 acres.

Winner Alternative

The Winner Alternative is located on an approximately 83,000-acre area entirely within Tripp County, approximately eight miles south of the City of Winner, South Dakota, and would interconnect with Western's Winner Substation, located in Tripp County, South Dakota. The Proposed Project would be similar to that described for the Crow Lake Alternative with the following exceptions: it includes 108 miles of underground communication system and electrical collector lines (within the same trench); 34.5-kV to 115-kV collector substation and microwave tower; a 10 to 11 mile-long overhead 115-kV transmission line; equipment/material storage or lay-down areas (temporary impact of 40 acres); crane walks (temporary impact of 530 acres); and 117 miles of new and/or upgraded service roads to access the facilities. The Winner Alternative would result in a temporary impact to 3,187 acres and permanent impact to 261 acres. The Wind Partners' proposed development does not pertain to the Winner Alternative.

Environmentally Preferred Alternative

As required by 40 CFR 1505.2(b), Western has identified the No Action Alternative as the environmentally preferred alternative. Under this alternative, Western would deny the interconnection requests and not modify its transmission system to interconnect the Proposed Project and Wind Partners' proposed development and it was assumed for the EIS that the associated environmental impacts would not occur. However, Western must respond to Basin Electric's interconnection requests under the terms of the Tariff. The Tariff and underlying Federal Energy Regulatory Commission (FERC) orders mandating open access to transmission systems establish conditions under which interconnection requests must be considered (FERC Order Nos. 888 and 888-A).

Agency Preferred Alternative

Western's Tariff provides open access to its transmission system. If there is available capacity in the transmission system, Western provides transmission services through an interconnection. Transmission studies completed for the Crow Lake Alternative demonstrate that transmission capacity is available for the Proposed Project through an interconnection at Western's existing Wessington Springs Substation without the need to expand the substation. Facility expansion may be required at Western's Winner Substation to accommodate interconnecting the Winner Alternative. Since transmission capacity is available for the Crow Lake Alternative and transmission studies have demonstrated that system reliability and service to existing customers would not be jeopardized, and taking into account the environmental impacts, the interconnection at Western's Wessington Springs Substation was identified as Western's preferred alternative in the Final EIS.

Environmental Impacts

The analysis in the Final EIS demonstrated that the Proposed Project and Wind Partners' proposed development (at the Crow Lake Alternative) would have no impacts or less than significant impacts on geology and soils, water, land use (including farmland and recreation), transportation, visual resources, noise, socioeconomics, environmental justice, cultural resources, and health and safety. Expected impacts on other environmental resources are discussed below. The analysis in the Final EIS also demonstrated that Western's proposed action would have no impacts or less than significant impacts to all resources since modifications required for the interconnection would be confined to the existing Wessington Springs Substation.

Air Quality and Climate Change

Carbon dioxide (CO2) is one of six greenhouse gases (GHGs) that contribute to climate change and represents approximately 84 percent of all GHG emissions in the United States. Wind power generates electricity without air emissions, including CO2. Within South Dakota, CO2 emissions resulting from fossil fuel combustion totaled 13.78 million tons in 2007; of these, activities related to the generation of electric power accounted for 2.96 million tons of CO2. Further, operation of the Proposed Project and Wind Partners' proposed development would avoid 726,600 metric tons of CO2 emissions per year compared to the average emissions of fossil fueled generating stations employed in South Dakota; thus, would contribute to the national and State efforts to minimize GHG emissions. This amount avoided is equal to the annual CO2 emissions of approximately 130,000 average passenger cars.

Biology

Avian mortality from collisions with turbines would likely occur. Data obtained through baseline avian use surveys and local habitat characterization suggest that avian mortality rates are likely to be similar to or lower than those experienced at other United States wind farms. Based on the anticipated low level of mortality and incorporation of Best Management Practices (BMPs), Applicants' Proposed Measures (APMs), Operations and Monitoring Plan (OMP), and voluntary conservation measures for habitat offsets, impacts to birds would be less than significant. Based on existing avian use data from the Crow Lake Alternative, bird fatalities are expected to be low compared with other wind facilities around the United States.

Bat mortality from collisions with turbines would likely occur. Some researchers have concluded that observed mortality rates do not have population-level effects, and no significant difference has been noted in mortality rates at lit and unlit turbines. Preliminary data from bat call studies in 2009 indicate low bat activity in the Crow Lake Alternative; therefore, the frequency of collisions may be low based on recently collected bat data. Additionally, the incorporation of APMs, BMPs, and an OMP would minimize impacts to bats.

Public Involvement

An NOI describing the proposed action was published in the Federal Register on April 7, 2009 (74 FR 15718). The NOI announced the intent to prepare an EIS on the Proposed Project, described the proposal, provided scoping meeting locations and dates, started a 30-day comment period, and provided contacts for further information about the Proposed Project and for submitting scoping comments. The public scoping meetings were held at Winner, South Dakota, on April 28, 2009, and at Plankinton, South Dakota, on April 29, 2009. Western and RUS held an interagency meeting in Pierre, South Dakota, on April 28, 2009. A total of 77 written comment documents from agencies and individuals were received during the scoping period; these comments were addressed in the Draft EIS.

A Notice of Availability of the Draft EIS was published by the EPA in the Federal Register on January 15, 2010 (75 FR 2540). Western and RUS held an interagency meeting in Pierre, South Dakota, on February 11, 2010. A public hearing to receive comments on the Draft EIS was held in Chamberlain, South Dakota, on February 11, 2010. Comments from three individuals were transcribed for the record during the public hearing and 30 written comment documents were received from agencies and individuals. Substantive, factual, and editorial comments were incorporated and addressed in the Final EIS; other comments not affecting the substance of the document have been noted.

The EPA published the Notice of Availability of the Final EIS on July 30, 2010. The 30-day review period ended on August 30, 2010. Two comments were received on the Final EIS (see below for response to comments on Final EIS).

Mitigation Measures

Through public and agency participation in the NEPA process, Basin Electric has altered the design of the Proposed Project and Wind Partners' proposed development to minimize impacts to the environment. As described in Chapter 2 of the Final EIS, the Proposed Project and Wind Partners' proposed development include APMs, BMPs, OMP, and voluntary conservation measures for habitat offsets to minimize, monitor, and/or mitigate environmental impacts. Generally, the APMs and BMPs represent standard measures to minimize impacts associated with construction and operation. The OMP provides a framework for post-construction wildlife monitoring for whooping cranes, bird and bat mortality, grassland breeding birds, and avian use. Basin Electric included voluntary conservation measures to offset indirect impacts to wetland and grassland habitat; the offsets included compensation for 76.7 acres of wetland habitat and 675 acres of grassland habitat and were developed in coordination with the U.S. Fish and Wildlife Service (USFWS). Furthermore, Basin Electric has committed to identify potential effects of the Proposed Project and Wind Partners' proposed development on birds and bats and to use the results of their 3-year Bird and Bat Fatality Monitoring to identify and incorporate, to the extent practicable, measures to minimize bird and bat mortality.

Western's authority is limited to mitigation associated with the interconnection of the Proposed Project and the Wind Partners' proposed development. Western will adhere to its own standard mitigation measures for all modifications within Wessington Springs Substation.

Consultation

Western is the lead Federal agency for compliance with section 106 of the National Historic Preservation Act (16 U.S.C. 479(f)). By letter of June 30, 2010, the South Dakota State Historic Preservation Officer concurred with the determination of No Adverse Effect based on the stipulations outlined in the Memorandum of Understanding entitled “Memorandum of Understanding among Western Area Power Administration, Cheyenne River Sioux Tribe, Crow Creek Sioux Tribe, Flandreau Santee Sioux Tribe, Fort Peck Tribes, Lower Brule Sioux Tribe, Lower Sioux Indian Community, Oglala Sioux Tribe, Rosebud Sioux Tribe, Santee Sioux Tribe, Sisseton-Wahpeton Dakota Nation, Standing Rock Sioux Tribe, Spirit Lake Tribal Council, Three Affiliated Tribes, Upper Sioux Indian Community, Yankton Sioux Tribe, Wahpetkute Band of the Dakota, the South Dakota State Historic Preservation Officer, and Basin Electric Power Cooperative, regarding Treatment of Archaeological and TCP Historic Properties for the South Dakota Prairie Winds Project.” Western will ensure that the provisions outlined in the MOU are implemented.

RUS is the lead Federal agency for compliance with section 7 of the Endangered Species Act (16 U.S.C. 1536). On February 18, 2010, a Biological Assessment was prepared and submitted with a determination that the Proposed Project and Wind Partners' proposed development would not likely affect the piping plover and is likely to adversely affect the whooping crane. The USFWS concurred via a March 16, 2010, letter with RUS's determination that the Proposed Project is not likely to adversely affect the piping plover and is likely to adversely affect the whooping crane. In the Biological Opinion dated July 13, 2010, the USFWS concluded that, “after reviewing the current status of the whooping crane, the environmental baseline for the action area, the effects of the proposed action, and the cumulative effects, it is the Service's biological opinion that the SDPW project [the Proposed Project and Wind Partners' proposed development] is not likely to jeopardize the continued existence of the whooping crane. Critical habitat for the whooping crane has been designated in other areas within the species' range but not in the action area nor in South Dakota; therefore, destruction or adverse modification of critical habitat will not occur.” Section 7 consultation has concluded and the Biological Opinion identified that no terms and conditions or reasonable and prudent measures are required for the Proposed Project and Wind Partners' proposed development.

Floodplains and Wetlands

In accordance with 10 CFR Part 1022, Western considered the potential impacts of the Proposed Project and Wind Partners' proposed development on floodplains and wetlands. The Federal Emergency Management Agency has not mapped flood hazards in the unincorporated areas of Brule and Jerauld counties. Aurora County has been mapped and is designated as Zone D (i.e., areas with possible but undetermined flood hazards, no flood hazard analysis has been conducted). Impacts to floodplains would be negligible because components would not be located in the areas that are the most prone to flooding (streams and wetlands [see below for wetland determination]), the impact area represents a small and dispersed footprint (190 acres spread across the 36,000 acre site), and engineering design and controls would minimize risk to and/or from flooding.

Field investigations were conducted to verify National Wetland Inventory (NWI) wetlands and map the actual location of wetlands within the Crow Lake Alternative. Wetlands that were field-verified (not NWI wetlands) were used in the impact analysis because (1) they were identified in the field as opposed to NWI wetlands that are identified on maps and not field-verified, and (2) field-verified wetlands accounted for a larger, more conservative, acreage than NWI wetlands. In addition, wetlands (including jurisdictional, non-jurisdictional and waters of the U.S., collectively termed “wetlands”) were delineated for the Crow Lake Alternative. Basin Electric has committed to a voluntary conservation measure to offset 76.7 acres of indirect impact (i.e., species avoidance effects) to wetland habitat. As currently designed, the Proposed Project would have no temporary or permanent direct impacts to wetlands.

Some of the Proposed Project components have been adjusted based on engineering and resource issues since the original surveys were completed; therefore, additional wetland delineations will be completed within impact areas after final design with the intent that all wetlands will be identified and avoided. Upon final design, if wetlands cannot be avoided, further coordination will occur between Basin Electric and the U.S. Army Corps of Engineers (USACE). Basin Electric would obtain the necessary permit(s) under Section 404 of the Clean Water Act (33 U.S.C. 1344) and mitigate for impacts prior to construction.

A similar wetland delineation process will be conducted for the Wind Partners' proposed development, prior to the start of construction, in accordance with USACE standard protocols to identify and avoid wetlands. If final engineering results in layout modifications, then additional delineations will be performed within the final impact areas to identify wetlands that require minor project facility re-routes such that wetlands will be avoided. Although not anticipated, if impacts to wetlands (including jurisdictional waters of the U.S. [collectively termed “wetlands”]) are unavoidable, then Basin Electric would obtain a section 404 Permit through the USACE.

Comments on Final EIS

Western received comments from the EPA in a letter dated August 26, 2010, and comments from the USFWS through the U.S. Department of the Interior (DOI) in a letter dated August 27, 2010. Based on a review of these comments, Western has determined that the comments do not present any significant new circumstances or information relevant to environmental concerns and bearing on the Proposed Project or Wind Partners' proposed development or associated impacts, and thus a Supplemental EIS is not required. The basis for this determination is summarized below.

EPA noted that the Final EIS addressed many of their concerns on the Draft EIS, including cumulative impacts and protection of wetlands. Additionally, EPA recommended that the ROD require that wetlands be avoided and describe how this will be implemented; outline how Basin Electric will comply with the State's construction stormwater permit and Storm Water Pollution Prevention Plan requirements; and outline how roads and project features will be maintained to minimize or prevent erosion and/or stormwater runoff. Basin Electric has committed to avoiding wetlands and has modified the locations of Proposed Project components in accordance with this commitment (see above for wetland determination). The State of South Dakota issued Basin Electric a General Permit for Storm Water Discharges Associated with Construction Activities on July 30, 2010. Basin Electric will comply with this and all other State and Federal laws and regulations. Basin Electric has conducted geotechnical investigations and will consider compaction requirements for backfill, depth to the saturated zone, slope, erosion potential, and other similar factors in the engineering design of roadways and other project area features. Grading, drainage, roadway, and other project area feature designs will be engineered to manage runoff, and minimize/prevent erosion. Long-term stability of restored temporary disturbance areas and areas with permanent installations will be managed in accordance with the APMs and BMPs.

DOI's letter provided the following recommended corrections and offsetting measures: correct and clarify acres of affected habitat (wetland easements); prepare a voluntary Avian and Bat Protection Plan (ABPP) in coordination with USFWS; and include recurring costs of managing habitat offset lands. The following provides clarification on the potential impacts to USFWS wetland and grassland easements. The Final EIS correctly notes that the USFWS administers wetland easements within 15 parcels in the Crow Lake Alternative. Geospatial data for the locations of wetland easements was obtained from USFWS; per this data, the agencies included the entire area of the parcels in their assessment of wetland easement area estimates (2,718 acres within the project boundary or 2,836 acres including the full area for those parcels that are bisected by the project boundary). DOI's letter provided clarification that the wetland easements pertain only to the protected wetland basins within a portion of these parcels and portions of the parcels containing wetland easements are actually unprotected upland areas. Components of the Proposed Project and Wind Partners' proposed development located within parcels containing USFWS wetland easements would be located in the unprotected upland areas of these parcels. The correct impact estimate is that, while there would be a temporary impact of 120 acres and a permanent impact of 22 acres within the unprotected upland portions of parcels containing wetland easements, the Proposed Project and Wind Partners' proposed development would result in no temporary or permanent impacts to USFWS wetland easements. As stated in the Biological Opinion, “Refuges has worked with Basin and has determined that there are sites for project facilities that would have an acceptably minimal impact on the wildlife resources of the area.”

The DOI letter provided a recommendation that an ABPP be prepared in coordination with USFWS before project operations commence and that the ABPP provide a process whereby the results of the OMP, “will be used to identify and incorporate, to the extent practicable, measures to minimize bird and bat mortality.” DOI also noted that an ABPP and Adaptive Management Plan were identified during prior stages of EIS development, but were excluded from the Final EIS. As stated in Appendix F of the Final EIS (Comment and Response), the term ABPP was used incorrectly in the Draft EIS and was replaced with the OMP, which is specific to the Proposed Project and Wind Partners' proposed development, in the Final EIS. Basin Electric is preparing an ABPP per the Avian Protection Plan Guidelines, developed in part by USFWS. The ABPP is a corporate level document that is not specific to the Proposed Project and is not yet complete. The OMP contains project-specific construction requirements, post-construction monitoring, and reporting requirements. Furthermore, Basin Electric has committed to identify potential effects of the Proposed Project and Wind Partners' proposed development on birds and bats and to use the results of their 3-year Bird and Bat Fatality Monitoring from the OMP to identify and incorporate, to the extent practicable, measures to minimize bird and bat mortality.

The DOI letter also provided a recommendation to ensure that all lands for both temporary and permanent habitat impacts are offset and include a source of funds for both acquisition and recurring management. The agencies and Basin Electric had discussions with USFWS on April 6, 2010, regarding compensatory mitigation and habitat offsets. Through a voluntary process, Basin Electric included conservation measures to offset indirect impacts to wetland and grassland habitat; the offsets included compensation for 76.7 acres of wetland habitat and 675 acres of grassland habitat and were developed in coordination with the USFWS.

Decision

Western's decision is to allow Basin Electric's requests for interconnection at the Wessington Springs Substation in South Dakota and to complete modifications to the substation to support the interconnections.¹ Western's decision to grant these interconnection requests satisfies the agency's statutory mission and Basin Electric's objectives while minimizing harm to the environment. Two interconnection agreements will be executed in accordance with Western's Tariff.

¹ Western's authority to issue a record of decision for integrating transmission facilities is pursuant to authority delegated on October 4, 1999, from the Assistant Secretary for Environment, Safety and Health to Western's Administrator.

Basin Electric has committed to minimize the Proposed Project and Wind Partners' proposed development impact on the environment through design and incorporation of APMs, BMPS, OMP, and voluntary conservation measures for habitat offsets as described in Chapter 2 of the Final EIS and summarized above. The Proposed Project and Wind Partner's proposed development employ all practicable means to avoid or minimize environmental harm. Furthermore, Basin Electric has committed to use the results of their 3-year Bird and Bat Fatality Monitoring from the OMP to identify and incorporate, to the extent practicable, measures to minimize bird and bat mortality. Western will adhere to its own standard mitigation measures for all modifications within Wessington Springs Substation. Western will ensure that the stipulations of the MOU are executed in support of section 106 of the NHPA in carrying out its decision.

This decision is based on the information contained in the South Dakota PrairieWinds Project Final EIS (DOE/EIS-0418). The EIS and this ROD were prepared pursuant to the requirements of the Council on Environmental Quality Regulations for Implementing NEPA (40 CFR Parts 1500-1508), DOE Procedures for Implementing NEPA (10 CFR Part 1021), and DOE's Floodplain/Wetland Review Requirements (10 CFR Part 1022). Full implementation of this decision is contingent upon the Proposed Project and Wind Partners' proposed development obtaining all applicable permits and approvals.

Dated: September 21, 2010.
Timothy J. Meeks,
Administrator.

[FR Doc. 2010-24388 Filed 9-28-10; 8:45 am]

BILLING CODE 6450-01-P